DEPARTMENT OF ENERGY

Federal Energy Regulatory Commission

Combined Notice of Filings # 1

September 21, 2009.

Take notice that the Commission received the following electric corporate filings:

Docket Numbers: EC09-109-000.

Applicants: Consolidated Edison Company of New York, Inc.

Description: Application of Consolidated Edison Company of New York, Inc. for Authorization to Acquire Short-Term Debt.

Filed Date: 09/18/2009.

Accession Number: 20090918-5110.

Comment Date: 5 p.m. Eastern Time on Friday, October 09, 2009.

Take notice that the Commission received the following electric rate filings:

Docket Numbers: ER00-3251-020; ER01-1147-010; ER01-1919-016; ER01-513-028; ER98-1734-019; ER99-2404-015.

Applicants: Exelon Generation Company, LLC, AmerGen Energy Company, LLC; Commonwealth Edison Company, Exelon Framingham LLC, Exelon Generation Company, LLC, Exelon New Boston LLC, Exelon New England Power Marketing, LP, Exelon West Medway LLC, PECO Energy Power Company, PECO Energy Company.

Description: Revised Caption for Central Region Market Power Update Filing of the Exelon MBR Companies.

Filed Date: 09/18/2009.

Accession Number: 20090918-5104.

Comment Date: 5 p.m. Eastern Time on Friday, October 09, 2009.

Docket Numbers: ER05-1195-005.

Applicants: Silverhill, Ltd.

Description: Change in Status of Silverhill LTD.

Filed Date: 09/18/2009.

Accession Number: 20090918-5063.

Comment Date: 5 p.m. Eastern Time on Friday, October 09, 2009.

Docket Numbers: ER08-54-014.

Applicants: ISO New England Inc.

Description: Report of ISO New England Inc. Regarding the Implementation of Market Rule Changes to Permit Non-Generating Resources to Participate in the Regulation Market.

Filed Date: 09/18/2009.

Accession Number: 20090918-5106.

Comment Date: 5 p.m. Eastern Time on Friday, October 09, 2009.

Docket Numbers: ER09-1716-000.

Applicants: Southwest Power Pool, Inc.

Description: Southwest Power Pool, Inc submits an executed interim Large Generator Interconnection Agreement with Western Farmers Electric Cooperative.

Filed Date: 09/17/2009.

Accession Number: 20090918-0089.

Comment Date: 5 p.m. Eastern Time on Thursday, October 08, 2009.

Docket Numbers: ER09-1717-000.

Applicants: Duke Energy Carolinas, LLC.

Description: Duke Energy Carolinas, LLC submits the revised depreciation accrual rates for use in its formula rates for wholesale power sales under.

Filed Date: 09/17/2009.

Accession Number: 20090918-0086.

Comment Date: 5 p.m. Eastern Time on Thursday, October 08, 2009.

Docket Numbers: ER09-1719-000.

Applicants: Midwest Independent Transmission System Operator, Inc.

Description: Midwest Independent Transmission System Operator, Inc submits proposed revisions to the Open Access Transmission, Energy and Operating Reserve Markets Tariff re the Reliability Assessment Commitment Objective Function.

Filed Date: 09/18/2009.

Accession Number: 20090918-0111.

Comment Date: 5 p.m. Eastern Time on Friday, October 09, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-23348 Filed 9-25-09; 8:45 am]

BILLING CODE 6717-01-P